FEDERAL COMMUNICATIONS COMMISSION

47 CFR Part 73

[DA 06-1531; MB Docket No. 05-297; RM-11290]

Radio Broadcasting Services; Savanna, OK

AGENCY: Federal Communications Commission.

ACTION: Final rule.

SUMMARY: At the request of Charles Crawford, the Audio Division allots Channel 275A at Savanna, Oklahoma, as the community's first local aural transmission service. A later filed minor change application, File No. BPH-20050509AAB, filed by JDC Radio, Inc., licensee of Station KQIB(FM), Channel 275C3, Idabel, Oklahoma, is dismissed. Channel 275A is allotted at Savanna with a site restriction of 7.0 kilometers (4.3 miles) south at coordinates 34-46-00 NL and 95-50-00 WL. A filing window period for Channel 275A at Savanna will not be opened at this time. Instead, the issue of opening this allotment for auction will be addressed by the Commission in a subsequent Order.

DATES: Effective September 11, 2006.

ADDRESSES: Secretary, Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 05-297, adopted July 26, 2006, and released July 28, 2006. At the request of Charles Crawford, the Audio Division allots Channel 275A at Savanna, Oklahoma, as that community's first local aural transmission service. 70 FR 70775 (November 23, 2005). The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oklahoma, is amended by adding Savanna, Channel 275A.

Federal Communications Commission.
John A. Karousos,
Assistant Chief, Audio Division, Media Bureau.

[FR Doc. E6-13359 Filed 8-15-06; 8:45 am]

BILLING CODE 6712-01-P